DEPARTMENT OF HEALTH AND HUMAN SERVICES

Administration for Children and Families

Amendment of the Statement of Organizations, Functions and Delegation of Authority

AGENCY: Office of Refugee Resettlement, Administration for Children and Families, Department of Health and Human Services.

ACTION: Notice of amendment.

SUMMARY: The Administration for Children and Families (ACF) is amending the Statement of Organization, Functions and Delegation of Authority (“Statement”) issued in the Federal Register on April 28, 2009. The Statement delegated specific provisions of the William Wilberforce Trafficking Victims Protection Reauthorization Act of 2008, Public Law 110-457, section 235 from the Assistant Secretary for Children and Families to the Director of the Office of Refugee Resettlement. This amendment modifies the Statement to authorize the Director of the Office of Refugee Resettlement to redelegate the listed authorities contained within the Statement.

DATES: This amendment of the April 28, 2009, Statement of Organization, Functions and Delegation of Authority is effective on date of signature.

FOR FURTHER INFORMATION CONTACT: Toby Biswas, Director of Policy, Division of Unaccompanied Children Policy, Unaccompanied Children Bureau, Office of Refugee Resettlement, Administration for Children and Families, Department of Health and Human Services, Washington, DC, (202) 205-4440 or UCPolicy-RegulatoryAffairs@acf.hhs.gov.

SUPPLEMENTARY INFORMATION:

The first paragraph of the Statement of Organization, Functions and Delegation of Authority issued in the Federal Register on April 28, 2009 (74 FR 19232) currently reads as follows:

“Notice is hereby given that I delegate to the Director of the Office of Refugee Resettlement the following authority delegated to the Assistant Secretary for Children and Families by the Secretary of the Department of Health and Human Services (HHS) under the William Wilberforce Trafficking Victims Protection Reauthorization Act of 2008, Public Law 110-457, section 235.”

This paragraph is amended to read as follows:

“Notice is hereby given that I have delegated to the Director of the Office of Refugee Resettlement, with authority to re-delegate, the following authority delegated to the Assistant Secretary for Children and Families by the Secretary of the Department of Health and Human Services (HHS) under the William Wilberforce Trafficking Victims Protection Reauthorization Act of 2008, Public Law 110-457, section 235.”

The intention of this amendment is to provide notice to the public of the Assistant Secretary's delegation of authority provided in subsequent portions of the notice, as well as the authority to redelegate the listed authorities.

All other provisions of the Statement of Organization, Functions and Delegation of Authority issued in the Federal Register on April 28, 2009 (74 FR 19232) will remain unchanged.

Meg Sullivan,
Principal Deputy Assistant Secretary for the Administration for Children and Families, performing the delegable duties of the Assistant Secretary for Children and Families.

[FR Doc. 2025-00262 Filed 1-8-25; 8:45 am]

BILLING CODE 4184-45-P